DEPARTMENT OF COMMERCE

National Oceanic and Atmospheric Administration

RIN 0648-XA399

Pacific Fishery Management Council; Public Meeting

AGENCY: National Marine Fisheries Service (NMFS), National Oceanic and Atmospheric Administration (NOAA), Commerce.

ACTION: Notice of a public meeting (conference call).

SUMMARY: The Pacific Fishery Management Council (Pacific Council) will convene a conference call of its Coastal Pelagic Species Advisory Subpanel (CPSAS) that is open to the public.

DATES: The conference call will be held Wednesday, May 11, from 2 p.m. until 4 p.m. Pacific Time.

FOR FURTHER INFORMATION CONTACT: Kerry Griffin, Staff Officer; telephone: (503) 820-2280.

SUPPLEMENTARY INFORMATION: The primary purpose of the meeting is to develop a report to provide advice to the Pacific Council's Ecosystem Plan Development Team, in advance of the June Council meeting. Other topics may be discussed as time allows, at the discretion of the CPSAS Chair. These topics may include the mackerel Stock Assessment Review (STAR) panel meeting, consideration of the Pacific sardine management, and future meeting planning.

Although non-emergency issues not contained in the meeting agenda may come before the CPSAS for discussion, those issues may not be the subject of formal action during this meeting. CPSAS action will be restricted to those issues specifically listed in this notice and any issues arising after publication of this notice that require emergency action under Section 305(c) of the Magnuson-Stevens Fishery Conservation and Management Act, provided the public has been notified of the CPSAS's intent to take final action to address the emergency.

Special Accommodations

This meeting is accessible to people with disabilities. Requests for sign language interpretation or other auxiliary aids should be directed to Ms. Carolyn Porter at (503) 820-2280 at least 5 days prior to the meeting date.

Dated: April 25, 2011.
William D. Chappell,
Acting Director, Office of Sustainable Fisheries, National Marine Fisheries Service.

[FR Doc. 2011-10327 Filed 4-27-11; 8:45 am]

BILLING CODE 3510-22-P